DEPARTMENT OF COMMERCE

National Oceanic and Atmospheric Administration

RIN 0648-XE996

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council (MAFMC) will convene a public peer review panel meeting.

DATES: The meeting will be held on Friday, November 18, 2016, from 9 a.m. to 5 p.m. See SUPPLEMENTARY INFORMATION for agenda details.

ADDRESSES: The meeting will be held at the DoubleTree by Hilton BWI Airport, 890 Elkridge Landing Rd., Linthicum Heights, MD 21090; telephone: (410) 859-8400.

Council address: Mid-Atlantic Fishery Management Council, 800 N. State Street, Suite 201, Dover, DE 19901; telephone: (302) 674-2331; Web site: www.mafmc.org.

FOR FURTHER INFORMATION CONTACT: Christopher M. Moore, Ph.D., Executive Director, Mid-Atlantic Fishery Management Council; telephone: (302) 526-5255.

SUPPLEMENTARY INFORMATION: The MAFMC will convene a peer review panel consisting of members of the MAFMC's Scientific and Statistical Committee (SSC) and other outside experts, to review a summer flounder allocation model project. The MAFMC contracted the development of this project to inform consideration of potential changes to the allocation of annual catch and landings limits between the commercial and recreational sectors of the summer flounder fishery. This analysis aims to determine which allocations would maximize benefits to the commercial and recreational sectors. The results of this project and peer review are scheduled to be presented to the MAFMC in December 2016.

A detailed agenda and background documents will be made available on the Council's Web site (www.mafmc.org) prior to the meeting.

Special Accommodations

The meeting is physically accessible to people with disabilities. Requests for sign language interpretation or other auxiliary aid should be directed to M. Jan Saunders, (302) 526-5251, at least 5 days prior to the meeting date.

Dated: October 28, 2016.
Tracey L. Thompson,
Acting Deputy Director, Office of Sustainable Fisheries, National Marine Fisheries Service.

[FR Doc. 2016-26518 Filed 11-2-16; 8:45 am]

BILLING CODE 3510-22-P